DEPARTMENT OF LABOR

Employment and Training Administration

[TA-W-62,932; TA-W-62,364E; TA-W-62,364D; TA-W-62,364E]

Keeper Corporation Including On-Site Leased Workers of AAA Staffing, North Windham, CT; Including Employees in Support of Keeper Corporation, North Windham, CT Working in the Following Locations: West Grove, PA; Bountiful, UT; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on March 13, 2008, applicable to workers of Keeper Corporation, including leased workers of AAA Staffing, North Windham, Connecticut. The notice was published in the Federal Register on March 26, 2008 (73 FR 16064). The certification was amended on December 5, 2008 to include employees in support of the North Windham, Connecticut location working out of Lawrenceville, Georgia and Smyrna, Tennessee. The notice was published in the Federal Register on December 15, 2008 (73 FR 76058-76059).

At the request of the State agency, the Department reviewed the certification for workers of the subject firm. The workers are engaged in the production of cargo control products such as tie downs, towing straps and bungee cords.

New information shows that worker separations have occurred involving employees in support of the North Windham, Connecticut facility of Keeper Corporation working out of West Grove, Pennsylvania and Bountiful, Utah. Mr. Paul Delaney and Mr. William Hill provided sales functions supporting the production of cargo control products such as tie down, towing straps and bungee cords at the North Windham, Connecticut location of the subject firm.

Based on these findings, the Department is amending this certification to include employees of the North Windham, Connecticut facility of Keeper Corporation working out of West Grove, Pennsylvania and Bountiful, Utah.

The intent of the Department's certification is to include all workers of Keeper Corporation, North Windham, Connecticut who was adversely affected by a shift in production of cargo control products such as tie downs, towing straps and bungee cords to China.

The amended notice applicable to TA-W-62,932 is hereby issued as follows:

All workers of Keeper Corporation, including on-site leased workers of AAA Staffing, North Windham, Connecticut (TA-W-62,932), all workers of Keeper Corporation, Manchester, Connecticut (TA-W-62,932A), including employees in support of Keeper Corporation, North Windham, Connecticut working out of Lawrenceville, Georgia (TA-W-62,932B), Smyrna, Tennessee (TA-W-62,932C), West Grove, Pennsylvania (TA-W-62,932D) and Bountiful, Utah (TA-W-62,932E), who became totally or partially separated from employment on or after February 28, 2007, through March 13, 2010, are eligible to apply for adjustment assistance under Section 223 of the Trade Act of 1974, and are also eligible to apply for alternative trade adjustment assistance under Section 246 of the Trade Act of 1974.

Signed at Washington, DC this 25th day of February 2009.
Elliott S. Kushner,
Certifying Officer, Division of Trade Adjustment Assistance.

[FR Doc. E9-4543 Filed 3-3-09; 8:45 am]

BILLING CODE 4510-FN-P